DEPARTMENT OF COMMERCE

National Oceanic and Atmospheric Administration

Federal Consistency Appeal by Islander East Pipeline Company From an Objection by the Connecticut Department of Environmental Protection

AGENCY: National Oceanic and Atmospheric Administration (NOAA), Department of Commerce (Commerce).

ACTION: Notice of remand and stay of appeal proceedings; reopening of public comment period.

SUMMARY: This notice: (1) Announces a remand of Islander East's administrative appeal (Consistency Appeal of Islander East Pipeline Company, L.L.C.) to the Connecticut Department of Environmental Protection; (2) announces a suspension in processing Islander East's administrative appeal by the Department of Commerce, for a period ending no later than July 31, 2003; (3) reopens the period for the public to comment on Islander East's administrative appeal; and (4) provides information about procedural aspects of the appeal that are affected by the remand and stay of appeal proceedings.

DATES: The remand of the appeal to the Connecticut Department of Environmental Protection will extend for a period ending no later than July 31, 2003. The stay of appeal proceedings by the Department of Commerce will run through a period ending no later than July 31, 2003. The public comment period will now close on July 31, 2003, but will be extended assuming processing of the appeal resumes. The Federal agency comment period will be extended to run through July 31, 2003, and will be further extended after the appeal has recommenced.

ADDRESSES: All e-mail comments on issues relevant to the Secretary of Commerce's (Secretary) decision in this appeal may be submitted to Islander East.comments@noaa.gov. Comments may also be sent by mail to the Office of the General Counsel for Ocean Services, National Oceanic Atmospheric Administration, U.S. Department of Commerce, 1305 East-West Highway, Silver Spring, MD 20910. Materials from the appeal record are available at the Internet site http://www.ogc.doc.gov/czma.htm and at the Office of the General Counsel for Ocean Services. Also, public filings made by the parties to the appeal are to be available for review at the Connecticut Department of Environmental Protection, 79 Elm Street, Hartford, CT.

FOR FURTHER INFORMATION CONTACT: Branden Blum, Senior Counselor, NOAA Office of the General Counsel, via e-mail at GCOS.inquiries@noaa.gov, or at 301-713-2967, extension 186.

SUPPLEMENTARY INFORMATION:

I. Remand and Stay

In November 2002, the Islander East Pipeline Company, L.L.C. (Islander East) filed a notice of appeal with the Department of Commerce (Department), pursuant to the Coastal Zone Management Act of 1972 (CZMA), as amended, asking that the Secretary of Commerce override the State of Connecticut's (State) objection to Islander East's proposed natural gas pipeline. The pipeline would extend from near North haven, Connecticut, across the Long Island Sound to a terminus in Suffolk County (Long Island), New York. Connecticut's objection is based on the project's potential effect on the natural resources or land and water uses of Connecticut's coastal zone.

In March 2003, and then in early May 2003, the Department granted, and then extended, a stay of proceedings for this appeal, as jointly requested by the parties. Subsequently, on May 15, 2003, Islander East requested the Department of Commerce to: (1) Continue the stay then in place regarding the Department's proceeding of the appeal; and (2) remand the proceeding to the Connecticut Department of Environmental Protection. The remand would allow the State to reconsider its October 2002 objection to the proposed pipeline project, based on new information submitted by Islander East. The new information primarily involves changes proposed to minimize adverse environmental impacts to Long Island Sound that may result from construction of the proposed pipeline. The changes are intended to address concerns which were a basis for the State's objection to the project.

The State of Connecticut advised the Department on May 23, 2003, that it did not object to a remand; nor did it object to the period of the remand ending no later than July 31, 2003, as proposed by Islander East. On June 2, 2003, the Department granted the requested remand and stay pursuant to 15 CFR 930.129(d).

II. Public Comments

During the remand and stay, the public may continue to submit comments to the Department of Commerce (see address section above) on issues to be considered if the appeal recommences. A summary of the grounds for which Islander East requested an override of the State's objection appears in the Federal Register at 68 FR 3513. The public comment period, which was announced in this same issue of the Federal Register as ending on May 8, 2003, is reopened through July 31, 2003. Comments received after May 8, 2003, but before the publication of this notice, will be considered to be timely filed.

III. Other Procedural Matters

This portion of the Federal Register notice provides information concerning other procedural aspects of the Islander East appeal that are affected by the remand and stay. The Federal agency comment period will be reopened and letters announcing this action will be sent to agencies whose views were previously solicited but not yet received. If the Department resumes processing the appeal, both the public and federal agency comment periods will be further extended in order to provide an adequate opportunity to consider the State of Connecticut's brief. (The State's brief had been due on March 24, 2003. As announced previously, the State's brief is now due 45 days after the appeal has recommenced.) Note: the additional time for comments, to be provided if the appeal recommences, will not be commensurate with the length of the stays. This is a change to advice contained in a Federal Register notice announcing the stay granted on March 17, 2003 (see 68 FR 14401), and reflects the ongoing nature of the stay. The stay requested at the time we provided our earlier advice is far shorter than the overall length of the stay as subsequently extended.

The scheduling of a public hearing on the appeal will continue to be delayed until after processing of the appeal resumes, consistent with the earlier request of Islander East and the State.

A summary of relevant issues as well as additional background on the appeal appears in a January 24, 2003, Federal Register announcement, 68 FR 3513, a copy of which can be found at the Department of Commerce CZMA appeals Web site www.ogc.doc.gov/czma.htm. The Web site also provides access to documents from the appeal record and general information concerning the appeal process.

Questions about the stay for the Islander East appeal may be sent to NOAA via e-mail (GCOS.inquiries@noaa.gov) or made by telephone (301 713-2967, extension 186).

(Federal Domestic Assistance Catalog No. 11.419 Coastal Zone Management Program Assistance.)

Dated: June 11, 2003.
James R. Walpole,
General Counsel.

[FR Doc. 03-15206 Filed 6-16-03; 8:45 am]

BILLING CODE 3510-08-M